DEPARTMENT OF THE TREASURY

Agency Information Collection Activities; Submission for OMB Review; Comment Request; Departmental Offices Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before December 16, 2022 to be assured of consideration.

ADDRESSES: Send comments regarding the burden estimate, or any other aspect of the information collection, including suggestions for reducing the burden, to Treasury PRA Clearance Officer, 1750 Pennsylvania Ave. NW, Suite 8100, Washington, DC 20220, or email at PRA@treasury.gov.

FOR FURTHER INFORMATION CONTACT: Copies of the submissions may be obtained from Christopher Dove by emailing Christopher.Dove@treasury.gov, calling (202) 927-0374, or viewing the entire information collection request at www.reginfo.gov.

SUPPLEMENTARY INFORMATION:

Title: Troubled Asset Relief Program—Making Home Affordable Participants.

OMB Control Number: 1505-0216.

Type of Review: Extension without change of a currently approved collection.

Description: Authorized under the Emergency Economic Stabilization Act (EESA) of 2008 (Pub. L. 110-343), the Department of the Treasury has implemented several aspects of the Troubled Asset Relief Program (TARP). Among these components was a voluntary foreclosure prevention program—the Making Home Affordable (MHA) program, under which the Department used TARP capital to lower the mortgage payments of qualifying borrowers. The Treasury did this through agreements with mortgage servicers (Servicer Participation Agreements, or SPAs) to modify loans on their systems. Pursuant to the Consolidated Appropriations Act, 2016 (Pub. L. 114-113), the MHA program terminated on December 31, 2016, except with respect to certain loan modification applications made before such date. The MHA program has several subcomponents: HAMP (Home Affordable Modification Program), 2MP (Second Lien Modification Program), HAFA (Home Affordable Foreclosure Alternatives) and FHA (Federal Housing Administration)/RD (Rural Development) HAMP. Though the MHA program has terminated, there is some data reporting that will continue through December 2023 for incentive payment and compliance purposes.

Form Number: None.

Affected Public: Businesses or other for-profits.

Estimated Number of Respondents: 140.

Frequency of Response: On occasion.

Estimated Total Number of Annual Responses: 1,680.

Estimated Time per Response: 28.5 hours.

Estimated Total Annual Burden Hours: 47,880.

Request for Comments: Comments submitted in response to this notice will be summarized and included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Melody Braswell,
Treasury PRA Clearance Officer.

[FR Doc. 2022-22432 Filed 10-14-22; 8:45 am]

BILLING CODE 4810-AK-P